NEIGHBORHOOD REINVESTMENT CORPORATION

Regular Board of Directors Meeting; Sunshine Act

TIME & DATE: 10:00 a.m., Thursday, March 27, 2014.

PLACE: NeighborWorks America—Gramlich Boardroom, 999 North Capitol Street NE., Washington DC 20002.

STATUS: Open (with the exception of Executive Session).

CONTACT PERSON: Jeffrey Bryson, General Counsel/Secretary, (202) 760-4101; jbryson@nw.org.

AGENDA:

I. CALL TO ORDER

II. Presentation to Michael Forster, CFO

III. Approval of Minutes

IV. Executive Session: Officer FY'13 Performance Review

V. Executive Session: Management Internal Operations Review

VI. Approval of FY'13 Audit

VII. Lease Renewal Parameters

VIII. Sustainable Homeownership RFP

IX. Resolution Recognizing Sarah Raskin

X. Successor to CounselorMax

XI. Grants to NeighborWorks Capital and Community Housing Capital

XII. Financial Report

XIII. Performance against Strategic Plan and Final FY13 Dashboard/Scorecard

XIV. Adjournment

Jeffrey T. Bryson,
EVP & General Counsel/Corporate Secretary.

[FR Doc. 2014-06538 Filed 3-20-14; 4:15 pm]

BILLING CODE 7570-02-P